DEPARTMENT OF COMMERCE

National Oceanic and Atmospheric Administration

RIN 0648-XG596

Caribbean Fishery Management Council; Public Meeting

AGENCY: National Marine Fisheries Service (NMFS), National Oceanic and Atmospheric Administration (NOAA), Commerce.

ACTION: Notice of a public meeting.

SUMMARY: The Caribbean Fishery Management Council will hold its 164th meeting in December to discuss the items contained in the agenda in the SUPPLEMENTARY INFORMATION.

DATES: The meetings will be held on December 11-12, 2018, from 9 a.m. to 5 p.m.

ADDRESSES: The meetings will be held at the Condado Vanderbilt Hotel, Ashford Avenue, 1055, San Juan, Puerto Rico 00907.

FOR FURTHER INFORMATION CONTACT: Caribbean Fishery Management Council, 270 Muñoz Rivera Avenue, Suite 401, San Juan, Puerto Rico 00918-1903, telephone: (787) 766-5926.

SUPPLEMENTARY INFORMATION:

December 11, 2018, 9 a.m.-5 p.m.

—Call to Order

—Adoption of Agenda

—Consideration of 163rd Council Meeting Verbatim Transcriptions

—Executive Director's Report

—Island-Based Fishery Management Plans

—Review of Draft Environmental Impact Statements

—Puerto Rico

—St. Thomas/St. John

—St. Croix

—Review Action 7 (Accountability Measures) of Draft Environmental Impact Statements and Choose Preferred Alternative(s)

—Review Other Actions, Additions, or Changes, as Appropriate

—Council Decision on Publication of DEIS for Public Comment

—Review Timeline for Completion of IBFMPs

—Project Events Update—Graciela García-Moliner

—GIS PR/USVI

—Connectivity Report

—EFH 3-Year Review

—Okeanos Explorer Visit

Public Comment Period (5-minute presentations)

December 11, 2018, 5 p.m.-6 p.m.

—Administrative Issues

—Closed Session

December 12, 2018, 9 a.m.-5 p.m.

°Strategic Reorientation of the Western Central Atlantic Fishery Commission (WECAFC)—Ms. Warner Kramer

—Ecosystem Based Fishery Management (EBFM) Initiative Update

—Data Compilations and Integrations—Mallory Brooks

—Risk Assessment Framework and Application to Conceptual Model—Tauna Rankin

—Request to Council to Convene DAPs and SSC for Risk Analysis Exercise

—Engagement Strategy—Alida Ortiz

—Outreach and Education Report—Alida Ortiz

—USVI Recreational Fishery Data Project Update—Ruth Gomez

—Exempted Fishing Permit Application Updates

—Clean Ocean Initiative

—Puerto Rico DNER

—NOAA/NMFS Panama City Laboratory

—Any Other Applications Received Prior to this Meeting

—Enforcement Issues:

—Puerto Rico-DNER

—USVI—DPNR

—U.S. Coast Guard

—NMFS/NOAA

—Meetings Attended by Council Members and Staff

—Other Business

—Spiny Lobster Data Collection Project Update—Marcos Hanke

Public Comment Period—(5-minute presentations)

°Next Meeting

The order of business may be adjusted as necessary to accommodate the completion of agenda items. The meeting will begin on December 11, 2018 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: November 6, 2018.
Tracey L. Thompson,
Acting Deputy Director, Office of Sustainable Fisheries, National Marine Fisheries Service.

[FR Doc. 2018-24614 Filed 11-9-18; 8:45 am]

BILLING CODE 3510-22-P